DEPARTMENT OF VETERANS AFFAIRS

[OMB Control No. 2900-New (Omnibus)]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to this notice. This notice solicits comments for information needed to incorporate veterans' perception of and satisfaction with the overall drug therapy benefits and process within VA.

DATES: Written comments and recommendations on the proposed collection of information should be received on or before November 30, 2007.

ADDRESSES: Submit written comments on the collection of information through http://www.Regulations.gov; or to Mary Stout, Veterans Health Administration (193E1), Department of Veterans Affairs, 810 Vermont Avenue, NW., Washington, DC 20420; or e-mail: mary.stout@va.gov. Please refer to “OMB Control No. 2900-2900-New (Omnibus)” in any correspondence. During the comment period, comments may be viewed online through the Federal Docket Management System (FDMS) at http://www.Regulations.gov.

FOR FURTHER INFORMATION CONTACT: Mary Stout at (202) 461-5867 or FAX (202) 273-9381.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Omnibus Medication Survey.

OMB Control Number: 2900-New (Omnibus).

Type of Review: New collection.

Abstract: The survey will enable VA Pharmacy Benefits Management Strategy Health Care Group (PMB) in gathering patients' perspective in the formulary decisions involving the safety and effectiveness of medications used in the VA system. PBM will use the data collected to determine how medications used in the VA system impact the patient's quality of care; frequency of side-effects of specific medication and drug combination; and the patient's satisfaction with the overall drug therapy benefit package and process within VHA.

Affected Public: Individuals or Households.

Estimated Annual Burden: 6,667 hours.

Estimated Average Burden per Respondent: 40 minutes.

Frequency of Response: Annually.

Estimated Number of Respondents: 10,000.

Dated: September 24, 2007.
By direction of the Secretary:
Denise McLamb,
Program Analyst, Records Management Service.

[FR Doc. E7-19300 Filed 9-28-07; 8:45 am]

BILLING CODE 8320-01-P